FEDERAL COMMUNICATIONS COMMISSION

Notice of Public Information Collection(s) Being Reviewed by the Federal Communications Commission

November 21, 2003.

SUMMARY: The Federal Communications Commission, as part of its continuing effort to reduce paperwork burden invites the general public and other Federal agencies to take this opportunity to comment on the following information collection(s), as required by the Paperwork Reduction Act of 1995, Pub. L. No. 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before January 2, 2004. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0270.

Title: Section 90.443, Content of Station Records.

Form No: N/A.

Type of Review: Extension of a currently approved collection.

Respondents: Individuals or households, business or other for-profit, not-for-profit institutions, and state, local or tribal governments.

Number of Respondents: 57,410.

Estimated Time Per Response: .083 hours.

Frequency of Response: On occasion reporting requirement and recordkeeping requirement.

Total Annual Burden: 4,765 hours.

Total Annual Cost: N/A.

Needs and Uses: This rule section requires antenna structure owners to: (1) Register the antenna structure with the Commission; (2) maintain the painting and lighting of the structure; (3) notify the Commission of changes in height, coordinates, ownership, painting, or lighting of the structure; and (4) notify the Commission upon dismantling of the structure. Section 90.433 of the Commission's rules, sets forth the recordkeeping requirement which is to be maintained by station licensees. These records will reflect whether or not maintenance of the licensee's equipment has been performed, and in instances of tower light checks and failures, if any, will indicate to the Commission that corrective action has been taken. The maintenance records may be used by the licensee or Commission field personnel to note any recurring equipment problems or conditions that may lead to degraded equipment performance and/or interference generation. Tower lighting records required are to ensure that the licensee is aware of the tower light condition and proper operation, in order to prevent and/or to correct any hazards to air navigation.

Federal Communications Commission.
Marlene H. Dortch,
Secretary.

[FR Doc. 03-30006 Filed 12-1-03; 8:45 am]

BILLING CODE 6712-01-P